OFFICE OF PERSONNEL MANAGEMENT

Excepted Service

AGENCY: U.S. Office of Personnel Management (OPM).

ACTION: Notice.

SUMMARY: This notice identifies Schedule A, B, and C appointing authorities applicable to a single agency that were established or revoked from July 1, 2013, to July 31, 2013.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the U.S. Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A authorities to report during July 2013.

Schedule B

No Schedule B authorities to report during July 2013.

Schedule C

The following Schedule C appointing authorities were approved during July 2013.

Agency name | Organization name | Position title | Authorization number | Effective date
DEPARTMENT OF AGRICULTURE | Natural Resources Conservation Service | Assistant Chief | DA130107 | 7/10/2013
|  | Senior Advisor | DA130121 | 7/29/2013
| Rural Business Service | Special Assistant | DA130091 | 7/18/2013
| Office of the Assistant Secretary for Administration | Special Assistant | DA130110 | 7/29/2013
| Office of the Assistant Secretary for Congressional Relations | Deputy Director, Intergovernmental Affairs | DA130119 | 7/30/2013
| Office of the General Counsel | Senior Counselor | DA130120 | 7/30/2013
DEPARTMENT OF COMMERCE | Office of the General Counsel | Counselor | DC130065 | 7/1/2013
| Office of the Chief of Staff | Senior Advisor | DC130066 | 7/1/2013
|  | Scheduling Assistant | DC130075 | 7/30/2013
| Immediate Office | Special Assistant | DC130067 | 7/12/2013
COMMISSION ON CIVIL RIGHTS | Commissioners | Special Assistant | CC130003 | 7/11/2013
CONSUMER PRODUCT SAFETY COMMISSION | Office of Commissioners | Special Assistant | PS130005 | 7/30/2013
DEPARTMENT OF DEFENSE | Office of the Assistant Secretary of Defense (Special Operations/Low Intensity Conflict and Interdependent Capabilities) | Special Assistant (Special Operations and Low Intensity Conflict) | DD130106 | 7/5/2013
| Office of the Secretary | Advanced Officer | DD130109 | 7/19/2013
DEPARTMENT OF THE AIR FORCE | Office of the General Counsel | Attorney-Advisor | DF130034 | 7/2/2013
DEPARTMENT OF EDUCATION | Office of Vocational and Adult Education | Chief of Staff | DB130056 | 7/17/2013
| Office of the Secretary | Chief of Staff | DB130054 | 7/22/2013
DEPARTMENT OF ENERGY | Office of the Chief Financial Officer | Chief of Staff | DE130072 | 7/1/2013
| Advanced Research Projects Agency—Energy | Technology | DE130077 | 7/12/2013
| Assistant Secretary for Energy Efficiency and Renewable Energy | Scheduler | DE130082 | 7/23/2013
| Office of Management | Director of Scheduling and Advance and Senior Advisor for Strategic Planning | DE130081 | 7/24/2013
FEDERAL ENERGY REGULATORY COMMISSION | Office of the Chairman | Confidential Assistant | DR130006 | 7/30/2013
DEPARTMENT OF HEALTH AND HUMAN SERVICES | Office of the Assistant Secretary for Public Affairs | Senior Advisor for Digital Communications | DH130096 | 7/9/2013
| Centers for Medicare and Medicaid Services | Senior Advisor | DH130095 | 7/10/2013
| Office of the Secretary | Policy Advisor (2) | DH130098 | 7/12/2013
|  |  | DH130099 | 7/12/2013
|  | Advance Lead | DH130106 | 7/29/2013
DEPARTMENT OF HOMELAND SECURITY | Office of the Under Secretary for Science and Technology | Advisor | DM130136 | 7/10/2013
DEPARTMENT OF THE INTERIOR | Secretary's Immediate Office | Special Assistant (2) | DI130040 | 7/2/2013
|  |  | DI130047 | 7/17/2013
|  | Senior Advisor | DI130043 | 7/10/2013
| United States Fish and Wildlife Service | Special Assistant | DI130045 | 7/22/2013
DEPARTMENT OF JUSTICE | Office of Legislative Affairs | Attorney Advisor | DJ130075 | 7/30/2013
| Office of the Associate Attorney General | Senior Counsel | DJ130076 | 7/30/2013
DEPARTMENT OF LABOR | Office of the Secretary | Deputy Director of the Office of Recovery for Auto Communities and Workers | DL130038 | 7/11/2013
|  | Deputy Director for Auto Communities and Workers | DL130039 | 7/12/2013
|  | Special Assistant (2) | DL130043 | 7/19/2013
|  |  | DL130044 | 7/19/2013
|  | Policy Advisor | DL130048 | 7/29/2013
OFFICE OF MANAGEMENT AND BUDGET | Office of the Director | Assistant | BO130026 | 7/30/2013
DEPARTMENT OF STATE | Bureau of Oceans and International Environmental and Scientific Affairs | Senior Advisor | DS130092 | 7/9/2013
| Office of the Global Women's Issues | Senior Advisor | DS130098 | 7/11/2013
| Office of the Secretary | Staff Assistant | DS130100 | 7/12/2013
DEPARTMENT OF TRANSPORTATION | Chief Information Officer | Director of Information Technology Strategy | DT130030 | 7/22/2013

The following Schedule C appointing authorities were revoked during July 2013.

Agency name | Organization name | Position title | Authorization number | Vacate date
COMMISSION ON CIVIL RIGHTS | Office of the Commissioner | Special Assistant | CC110002 | 7/24/13
DEPARTMENT OF AGRICULTURE | Office of Communications | Deputy Director of Scheduling and Advance | DA090126 | 7/3/13
DEPARTMENT OF COMMERCE | Office of the Assistant Secretary for Economic Development | Director of Public Affairs | DC100028 | 7/5/13
| Office of the Chief of Staff | Director of Scheduling and Advance | DC120135 | 7/26/13
| Office of the Deputy Secretary | Special Assistant | DC130013 | 7/27/13
DEPARTMENT OF EDUCATION | Office of Elementary and Secondary Education | Special Assistant (2) | DB090155 | 7/2/13
|  |  | DB090115 | 7/11/13
DEPARTMENT OF ENERGY | Office of the Secretary | Special Assistant | DE120094 | 7/13/13
DEPARTMENT OF HEALTH AND HUMAN SERVICES | Office of the Assistant Secretary for Legislation | Special Assistant to the Deputy Assistant Secretary for Discretionary Health Programs | DH120010 | 7/13/13
| Office of the Assistant Secretary for Children and Families | Director of Public Affairs | DH110070 | 7/27/13
DEPARTMENT OF HOMELAND SECURITY | Office of the Executive Secretary for Operations and Administration | Deputy Secretary, Briefing Book Coordinator | DM120002 | 7/12/13
| Federal Emergency Management Agency | Counselor to the Administrator | DM090405 | 7/13/13
| Immediate Office of the Deputy Secretary | Special Assistant to the Deputy Secretary | DM110030 | 7/13/13
DEPARTMENT OF JUSTICE | Office of the Attorney General | Counsel | DJ100179 | 7/13/13
| Office of the Associate Attorney General | Counsel | DJ090240 | 7/27/13
DEPARTMENT OF LABOR | Office of the Secretary | Special Assistant (2) | DL090132 | 7/13/13
|  |  | DL120051 | 7/13/13
DEPARTMENT OF THE AIR FORCE | Office of the Assistant Secretary, Installations, Environment, and Logistics | Special Assistant | DF110014 | 7/3/13
DEPARTMENT OF THE INTERIOR | Secretary's Immediate Office | Senior Advisor for Southwest and Rocky Mountain Regions | DI100020 | 7/2/13
|  | Staff Assistant | DI110009 | 7/15/13
|  | Program Coordinator | DI120014 | 7/17/13
| Office of the Deputy Secretary | Chief of Staff | DI120010 | 7/5/13
DEPARTMENT OF TRANSPORTATION | Assistant Secretary for Transportation Policy | Senior Advisor for Accessible Transportation | DT100051 | 7/17/13
ENVIRONMENTAL PROTECTION AGENCY | Office of the Administrator | White House Liaison | EP120028 | 7/6/13
FEDERAL ENERGY REGULATORY COMMISSION | Office of the Chairman | Confidential Assistant | DR110005 | 7/25/13

Authority: 5 U.S.C. 3301 and 3302; E.O. 10577, 3 CFR, 1954-1958 Comp., p. 218.

U.S. Office of Personnel Management.
Elaine Kaplan,
Acting Director.

[FR Doc. 2013-20534 Filed 8-22-13; 8:45 am]

BILLING CODE 6325-39-P